ENVIRONMENTAL PROTECTION AGENCY

[EPA-HQ-OPP-2020-0049; FRL-10016-92]

Pesticide Product Registration; Receipt of Applications for New Active Ingredients (October 2020)

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before March 10, 2021.

ADDRESSES: Submit your comments, identified by the docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Charles Smith, Biopesticides and Pollution Prevention Division (7511P), main telephone number: (703) 305-7090, email address: BPPDFRNotices@epa.gov; or Marietta Echeverria, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (http://www2.epa.gov/pesticide-registration/public-participation-process-registration-actions).

New Active Ingredients

1. File Symbol: 70051-REI. Docket ID number: EPA-HQ-OPP-2020-0326. Applicant: Certis USA LLC, 9145 Guilford Rd., Suite 175, Columbia, MD 21046. Product name: NPV003 Technical. Active Ingredient: Insecticide—Spodoptera frugiperda multiple nucleopolyhedrovirus isolate NPV003 at 100%. Proposed use: Manufacturing use. Contact: BPPD.

2. File Symbol: 70051-REO. Docket ID number: EPA-HQ-OPP-2020-0326. Applicant: Certis USA LLC, 9145 Guilford Rd., Suite 175, Columbia, MD 21046. Product name: NPV003 50% MUP. Active ingredient: Insecticide—Spodoptera frugiperda multiple nucleopolyhedrovirus isolate NPV003 at 50%. Proposed use: Manufacturing use. Contact: BPPD.

3. File Symbol: 70051-RGN. Docket ID number: EPA-HQ-OPP-2020-0326. Applicant: Certis USA LLC, 9145 Guilford Rd., Suite 175, Columbia, MD 21046. Product name: NPV003 WP. Active ingredient: Insecticide—Spodoptera frugiperda multiple nucleopolyhedrovirus isolate NPV003 at 0.71%. Proposed use: To control fall armyworm (by killing larvae) on or in berries and small fruit; Brassica head and stem vegetables; cereal grains; cucurbit vegetables; forage, fodder, and straw of cereal grains; fruiting vegetables; grass forage, fodder, and hay; hemp; leafy vegetables; legume vegetables; nongrass animal feeds; oilseeds; ornamental flowers and plants; pastures; pome fruit; root and tuber vegetables; sugarcane; tobacco; and turf via ground sprayers, aerial sprayers, or overhead sprinkler irrigation equipment. Contact: BPPD.

4. File Symbol: 70051-RGR. Docket ID number: EPA-HQ-OPP-2020-0326. Applicant: Certis USA LLC, 9145 Guilford Rd., Suite 175, Columbia, MD 21046. Product name: NPV003 LC. Active ingredient: Insecticide—Spodoptera frugiperda multiple nucleopolyhedrovirus isolate NPV003 at 25%. Proposed use: To control fall armyworm (by killing larvae) on or in berries and small fruit; Brassica head and stem vegetables; cereal grains; cucurbit vegetables; forage, fodder, and straw of cereal grains; fruiting vegetables; grass forage, fodder, and hay; hemp; leafy vegetables; legume vegetables; nongrass animal feeds; oilseeds; ornamental flowers and plants; pastures; pome fruit; root and tuber vegetables; sugarcane; tobacco; and turf via ground sprayers, aerial sprayers, or overhead sprinkler irrigation equipment. Contact: BPPD.

5. File Symbols: 94609-R and 94609-E. Docket ID number: EPA-HQ-OPP-2020-0533. Applicant: Meiji Seika Pharma Co., Ltd, c/o Landis International, Inc., 3185 Madison Highway, P.O. Box 5126, Valdosta, GA 31603-5126. Product names: L-Glufosinate Free Acid and L-Glufosinate Liquid Formulation. Active ingredient: Herbicide—L- Glufosinate Free Acid at 92.3% (L-Glufosinate Free Acid) and 10.26% (L-Glufosinate Liquid Formulation). Proposed uses: Apple; Beet, sugar; Bushberry subgroup 13B ; Canola; Corn, field; Corn, sweet; Cotton; Fruit, citrus, crop group 10-10; Fruit, pome, crop group 11-10; Fruit, stone, crop group 12-12; Grape; Nut, tree, crop group 14-12; Olive; Potato; Soybean. Contact: RD.

6. File Symbol: 94713-E. Docket ID number: EPA-HQ-OPP-2020-0496. Applicant: AFS32321 Crop Protection, Inc., P.O. Box 14069, Research Triangle Park, NC 27709. Product name: Theia Fungicide. Active ingredient: Bactericide and Fungicide—Bacillus subtilis strain AFS032321 at 100.0%. Proposed use: To control or suppress foliar and soilborne diseases of plants (e.g., berries, cucurbit vegetables, hemp, legume vegetables, pome fruit, or turf) in fields, forests, greenhouses, nurseries, post-harvest facilities, residential areas, or shadehouses via banded spray, bare root dip, broadcast spray, chemigation, foliar spray, hydroponics operations, in-furrow treatment, seed treatment, shanked-in treatment, soil drench, soil injection, transplant water, or tray drench. Contact: BPPD.

7. File Symbol: 94713-R. Docket ID number: EPA-HQ-OPP-2020-0496. Applicant: AFS32321 Crop Protection, Inc., P.O. Box 14069, Research Triangle Park, NC 27709. Product name: AFS032321 Technical. Active ingredient: Bactericide and Fungicide—Bacillus subtilis strain AFS032321 at 100.0%. Proposed use: Manufacturing use. Contact: BPPD.

(Authority: 7 U.S.C. 136 et seq.)

Dated: November 6, 2020.
Delores Barber,
Director, Information Technology and Resources Management Division, Office of Pesticide Programs.

[FR Doc. 2021-02526 Filed 2-5-21; 8:45 am]

BILLING CODE 6560-50-P